DEPARTMENT OF HEALTH AND HUMAN SERVICES

Administration for Children and Families

[CFDA Number: 93.587]

Notice for Public Comment on Administration for Native Americans' Program Policies Relating to the Native American Language Preservation and Maintenance—Esther Martinez Immersion Funding Opportunity

AGENCY: Administration for Native Americans (ANA), Administration for Children and Families (ACF), Department of Health and Human Services (HHS).

ACTION: Notice for public comment.

SUMMARY: Pursuant to Section 814 of the Native American Programs Act of 1974 (NAPA), as amended, the ANA is required to provide members of the public an opportunity to comment on proposed changes in interpretive rules and general statements of policy and to give notice of the proposed changes no less than 30 days before such changes become effective. In accordance with the notice requirements of NAPA, ANA herein describes proposed general statements of policy that relate to the Native American Language Preservation and Maintenance—Esther Martinez Immersion (EMI) funding opportunity announcement (FOA) in fiscal year (FY) 2020.

DATES: Comments are due by March 9, 2020. If ANA does not receive any significant comments on the statements of policy within the 30-day comment period, ANA will proceed with the proposed changes in the published FOA. The FOA will serve as the final notice of these proposed changes.

ADDRESSES: Comments may be submitted to Carmelia Strickland, Director of Program Operations, Administration for Native Americans, 330 C Street SW, Washington, DC 20201 or via email: ANAComments@acf.hhs.gov.

FOR FURTHER INFORMATION CONTACT: Carmelia Strickland, Director, Division of Program Operations, Administration for Native Americans, 330 C Street SW, Washington, DC 20201. Telephone: (877) 922-9262; Email: ANAComments@acf.hhs.gov.

SUPPLEMENTARY INFORMATION: Section 814 of NAPA, as amended, (42 U.S.C. 2992b-1) incorporates provisions of the Administrative Procedure Act that require ANA to provide notice of its proposed interpretive rules and statements of policy and to seek public comment on such proposals. ANA voluntarily provides notices of its rules of practice and procedure in an effort to be transparent. ANA published a notice in the Federal Register on December 27, 2019, located at 84 FR 71428, pages 71428-71430, that lays out changes ANA intends to implement in its FOAs for FY 2020. This notice provides information on additional changes that will be implemented in the FY 2020 EMI FOA.

ANA's past FOAs can be accessed at http://www.acf.hhs.gov/grants/open/foa/office/ana or http://www.acf.hhs.gov/grants/open/foa/. Synopses and application forms will be available on https://www.grants.gov.

1. On December 20, 2019, President Trump signed into law the Esther Martinez Native American Languages Programs Reauthorization Act (Reauthorization Act). The statute amended NAPA to allow ANA to set the project period of EMI grants to up to 60 months. Because of the complexity of language grants that provide immersion instruction and because Native American communities are most knowledgeable about their language programs and the length of time necessary to implement them, ANA has determined to use this new authority to give tribes maximum flexibility on the length of their grant and allow the project period for the FY 2020 EMI grants to be up to 60 months. Previously, awards were limited to a 36-month project period. FY 2020 awards will be made for a project period of 36 months, 48 months, or 60 months. An initial award will be for a 12-month budget period. Non-competing continuation (NCC) awards will be awarded on the basis of annual NCC applications, availability of funds, satisfactory progress, on-time completion of grant reporting requirements, and a determination that continued funding would be in the best interest of the government.

2. ANA had intended to accept applications for the EMI grants for 90 days, in-line with its other grants. However, because ANA is making additional changes to the EMI grant to implement the Reauthorization Act, ANA will reduce the period for accepting applications in order to issue the EMI awards in a timely manner. The EMI FOA, HHS-2018-ACF-ANA-NB-1343, will accept applications for 60 days from the date it is published on Grants.gov.

3. ANA plans to change the order of the publication of the FOAs. In the Notice of Public Comment published on December 27, 2019, 84 FR 71428, pages 71428-71430, Supplementary Information, ANA stated that it planned to publish the FOAs for the EMI, Native American Language Preservation and Maintenance (P&M), and Environmental Regulatory Enhancement (ERE) grants first and then allow a 2-week period before the Social and Economic Development Strategies (SEDS) and Social and Economic Development Strategies-Alaska (SEDS-AK) FOAs were published. However, because of the changes to the EMI grant described above, ANA will need additional time to publish the EMI FOA. In order to continue to stagger the submission deadlines, ANA has decided it will publish the P&M, ERE, and SEDS-AK FOAs first and then allow a 2-week period before the SEDS and EMI FOAs are published. As this is a change in agency procedure, the change will be made without reviewing comments.

Statutory Authority: Section 814 of the Native American Programs Act of 1974, as amended.

Elizabeth Leo,
Senior Grants Policy Specialist, Division of Grants Policy, Office of Administration.

[FR Doc. 2020-02319 Filed 2-5-20; 8:45 am]

BILLING CODE 4184-34-P